DEPARTMENT OF COMMERCE

Foreign-Trade Zones Board

[B-38-2017]

Foreign-Trade Zone (FTZ) 68—El Paso, Texas; Notification of Proposed Production Activity; PGTEX USA, Inc.; (Fiber Glass Fabrics); El Paso, Texas

PGTEX USA, Inc. (PGTEX) submitted a notification of proposed production activity to the FTZ Board for its facility in El Paso, Texas, within FTZ 68. The notification conforming to the requirements of the regulations of the FTZ Board (15 CFR 400.22) was received on May 19, 2017.

The PGTEX already has authority to produce fiber glass fabrics within Site 3 of FTZ 68. The current request would add glass fiber rovings as an input to the scope of authority. Pursuant to 15 CFR 400.14(b), additional FTZ authority would be limited to the specific foreign-status material described in the submitted notification (as described below) and subsequently authorized by the FTZ Board.

Production under FTZ procedures could exempt PGTEX from customs duty payments on the glass fiber rovings used in export production. The applicant indicates that the foreign-sourced glass fiber rovings (HTSUS 7019.12, duty rate 4.8%) will be admitted to the FTZ in privileged foreign status (19 CFR 146.41), which would require payment of the original duty rate on the glass fiber rovings incorporated into a finished product on which entry from the FTZ was subsequently made. Customs duties also could possibly be deferred or reduced on foreign-status production equipment.

Public comment is invited from interested parties. Submissions shall be addressed to the FTZ Board's Executive Secretary at the address below. The closing period for their receipt is July 31, 2017.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Diane Finver at Diane.Finver@trade.gov or (202) 482-1367.

Dated: June 13, 2017.
Andrew McGilvray,
Executive Secretary.

[FR Doc. 2017-12656 Filed 6-16-17; 8:45 am]

BILLING CODE 3510-DS-P